DEPARTMENT OF ENERGY

Federal Energy Regulatory Commission

Notice of Application To Amend License, and Soliciting Comments, Motions To Intervene, and Protests

a. Application Type: Application Amend the (monor-part) License for the Woodleaf-Powerhouse (Woodleaf-Palermo) Transmission Line Project.

b. Project No: 2281.

c. Data Filed: November 29, 1999.

d. Applicant: Pacific Gas and Electric Company (PG&E).

e. Name of Project: Woodleaf Powerhouse Transmission Line Project.

f. Location: The Project is located in Butte County, California. The project occupies lands of the United States in the Plumas National Forest.

g. Filed Pursuant to: Federal Energy Regulatory Commission Regulation, 18 CFR 4.200.

h. Applicant Contact: Kathryn Petersen, Sr. License Coordinator, Electirc Transmission Department, PG&E, 2730 Gateway Oaks Drive, Suite 120, Sacramento, CA 95833, (916) 923-7055.

i. FERC Contact: Any questions on this notice should be addressed to Mr. Jack Duckworth at (202) 219-2818 or by e-mail at jack.duckworth@ferc.fed.us.

j. Deadline for filing comments and/or motions: 45 days from the date of this notice.

All documents (original and eight copies) should be filed with: David Boergers, Secretary, Federal Energy Regulatory Commission, 888 First Street, NE, Washington, DC 20426.

Please include the project number (P-2281) on any comments or motions filed.

k. Description of Filing: PG&E proposes to delete non-jurisdictional transmission facilities from the project license. Specifically, PG&E states that the transmission line extending from Palermo Substation to Kanaka Junction is now used to serve distribution system load is no longer subject to licensing as primary project lines within the meaning of § 3(11) of the Federal Power Act. PG&E further states that the remaining portions of the transmission facilities extending from Kanaka Junction to Woodleaf Powerhouse, and the Forbestown Tap remain jurisdictional and should remain in the license. The licensee filed revised exhibit J and K drawings to show those transmission facilities which remain jurisdictional and those which they propose be removed from the license. Project boundaries were modified accordingly to reflect these changes. The licensee also filed a Transmission Operating Diagram (one-line diagram) of the project. The acreage of federal lands encompassed by the Project will be reduced by 18.81 acres. PG&E has applied to the Forest Service for an easement to cover the continued operation and maintenance of the transmission lines to be removed from the project license.

l. Location of the Application: A copy of the application is available for inspection and reproduction at the Commission's Public Reference Room, located at 888 First Street, NE, Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-7796 Filed 3-29-00; 8:45 am]

BILLING CODE 6717-01-M